DEPARTMENT OF LABOR

Employment and Training Administration

[TA-W-59,479]

Brand Science LLC d/b/a Le Sportsac, Stearns, KY; Notice of Termination of Investigation

Pursuant to section 221 of the Trade Act of 1974, as amended, an investigation was initiated on May 26, 2006 in response to a worker petition filed by a company official on behalf of workers at Brand Science LLC d/b/a Le Sportsac, Stearns, Kentucky.

The petitioning group of workers is covered by an active certification, (TA-W-58,480) which expires on January 6, 2008. Consequently, further investigation in this case would serve no purpose, and the investigation has been terminated.

Signed at Washington, DC, this 14th day of June 2006.
Richard Church,
Certifying Officer, Division of Trade Adjustment Assistance.

[FR Doc. E6-11092 Filed 7-13-06; 8:45 am]

BILLING CODE 4510-30-P